DEPARTMENT OF ENERGY

Federal Energy Regulatory Commission

[Project No. 2107-016—CA]

Pacific Gas and Electric Company; Notice of Availability of Final Environmental Assessment

March 29, 2007.

In accordance with the National Environmental Policy Act of 1969 and the Federal Energy Regulatory Commission's (Commission) regulations, 18 CFR part 380 (Order No. 486, 52 FR 47897), the Office of Energy Projects has reviewed the application for license for the Poe Hydroelectric Project, located on the North Fork Feather River in Butte County, California, and has prepared a final environmental assessment (EA) for the project. A draft EA was prepared and issued for public comment on August 2, 2006. The project occupies 144 acres of lands of the United States, which are administered by the Forest Supervisor of the Plumas National Forest.

The final EA contains the staff's analysis of the potential environmental impacts of the project and alternatives and concludes that licensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact John Mudre at (202) 502-8902.

Philis J. Posey,
Acting Secretary.

[FR Doc. E7-6207 Filed 4-3-07; 8:45 am]

BILLING CODE 6717-01-P